DEPARTMENT OF HEALTH AND HUMAN SERVICES

National Institutes of Health

Government-Owned Inventions; Availability for Licensing

AGENCY: National Institutes of Health, HHS.

ACTION: Notice.

SUMMARY: The inventions listed below are owned by an agency of the U.S. Government and are available for licensing in the U.S. in accordance with 35 U.S.C. 209 and 37 CFR part 404 to achieve expeditious commercialization of federally-funded research and development. Foreign patent applications are filed on selected inventions to extend market coverage for companies and may also be available for licensing.

FOR FURTHER INFORMATION CONTACT: Licensing information and copies of the U.S. patent applications listed below may be obtained by writing to the indicated licensing contact at the National Heart, Lung and Blood Institute, Office of Technology Transfer and Development, National Institutes of Health, 31 Center Drive Room 4A29, MSC2479, Bethesda, MD 20892-2479; telephone: 301-402-5579. A signed Confidential Disclosure Agreement may be required to receive copies of the patent applications.

SUPPLEMENTARY INFORMATION: Technology descriptions follow.

Immortalized Stria Vascularis Cell Line SV-k1

Description of Technology

Available for nonexclusive licensing for research uses is the cell line, SV-k1, derived from the Organ of Corti. The line was developed from the stria vascularis, an organ localized on the lateral wall of the cochlea, adjacent to the Organ of Corti, containing cell populations specialized in the production of an endolymph very rich in K+ characteristic of the mammalian inner ear. SV-k1 cells express a set of biomarkers completely different of those expressed by OC-k3 cells (See notice for E-012-2017/0 published contemporaneously herewith), and are not sensitive to ototoxic drugs.

Potential Commercial Applications

• Research

• Hearing research

Development Stage

• Materials

Inventors

Gilda Mabel Canseco de Kalinec and Federico Kalinec (both of NIDCD).

Publications

1. Espreafico, EM et al., “Localization of Myosin-V in the Centrosome” (1998) Proc Nat'l Acad Sci USA 95(15):8636-8641, 1998.

2. Gratton MA et al., “Strial marginal cells play a role in basement membrane homeostasis: In vitro and in vivo evidence.” Hear Res 163:27-36, 2002.

3. Park, C., et al., “HEl-OC1 Cells as a Model for Investigating Prestin Function.” (2016) Hear Res 335:9-17.

Intellectual Property

HHS Reference No. E-013-2017/0—Research Material.

Licensing Contact

Michael Shmilovich, Esq, CLP; 301-435-5019; shmilovm@mail.nih.gov.

Dated: November 7, 2016.
Michael Shmilovich,
National Heart, Lung and Blood Institute, Office of Technology Transfer and Development, National Institutes of Health.

[FR Doc. 2016-27337 Filed 11-14-16; 8:45 am]

BILLING CODE 4140-01-P